DEPARTMENT OF COMMERCE

International Trade Administration

[A-570-106]

Wooden Cabinet and Vanities and Components Thereof From the People's Republic of China: Preliminary Results, Preliminary Determination of No Shipments, and Partial Rescission of the Antidumping Duty Administrative Review; 2022-2023

AGENCY: Enforcement and Compliance, International Trade Administration, Department of Commerce.

SUMMARY: The U.S. Department of Commerce (Commerce) preliminarily determines that certain producers and/or exporters did not make sales of wooden cabinets and vanities and components thereof (wooden cabinets) from the People's Republic of China at less than normal value (NV) during the period of review (POR) April 1, 2022, through March 31, 2023. In addition, Commerce preliminarily determines that 30 companies are eligible for a separate rate and 12 companies had no shipments of subject merchandise during the POR. Further, Commerce is rescinding this review with respect to two companies. Interested parties are invited to comment on these preliminary results.

DATES: Applicable May 2, 2024.

FOR FURTHER INFORMATION CONTACT: Garry Kasparov, AD/CVD Operations, Office I, Enforcement and Compliance, International Trade Administration, U.S. Department of Commerce, 1401 Constitution Avenue NW, Washington, DC 20230; telephone: (202) 482-1397.

SUPPLEMENTARY INFORMATION:

Background

On April 21, 2020, Commerce published in the Federal Register the antidumping duty (AD) order on wooden cabinets from China.¹ On June 12, 2023, Commerce initiated an administrative review of the Order.²

¹ See Wooden Cabinets and Vanities and Components Thereof from the People's Republic of China: Antidumping Duty Order, 85 FR 22126 (April 21, 2020) (Order).

² See Initiation of Antidumping and Countervailing Duty Administrative Reviews, 88 FR 38021, 38033 (June 12, 2023).

On September 25, 2023, Commerce selected Ancientree and Jiangsu Sunwell Cabinetry Co., Ltd. (Sunwell) as the mandatory respondents.³ On September 27, 2023, Commerce issued the initial AD questionnaire to Ancientree and Sunwell.⁴ Sunwell failed to respond to the initial questionnaire by the deadline. Consequently, on November 17, 2023, Commerce selected Jiangsu Weisen Houseware Co., Ltd. (Weisen) as a mandatory respondent.⁵ On November 30, 2023, Commerce extended the deadline for the preliminary results of this administrative review until April 26, 2024.⁶

³ See Memorandum, “Respondent Selection,” dated September 25, 2023 (Respondent Selection Memorandum).

⁴ See Commerce's Letters, “Initial Questionnaire,” dated September 27, 2023 (Initial AD Questionnaire).

⁵ See Memorandum, “Second Respondent Selection,” dated November 17, 2023 (Second Respondent Selection Memorandum).

⁶ See Memorandum “Extension of Deadline for Preliminary Results,” dated November 30, 2023.

For a complete description of the events that followed the initiation of this review, see the Preliminary Decision Memorandum.⁷ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁷ See Memorandum, “Decision Memorandum for the Preliminary Results of the Antidumping Duty Administrative Review, Preliminary Determination of No Shipments, and Rescission, in Part, 2022-2023: Wooden Cabinets and Vanities and Components Thereof from the People's Republic of China,” dated concurrently with, and hereby adopted by, this notice (Preliminary Decision Memorandum).

Scope of the Order

The merchandise covered by the Order is wooden cabinets from China. For a complete description of the scope of the Order, see the Preliminary Decision Memorandum.

Methodology

Commerce is conducting this administrative review in accordance with section 751(a)(1)(B) of the Tariff Act of 1930, as amended (the Act). Because China is a non-market economy (NME) country within the meaning of section 771(18) of the Act, we calculated NV in accordance with section 773(c) of the Act. For a full description of the methodology underlying our conclusions, see the Preliminary Decision Memorandum.

Preliminary Determination of No Shipments

Based on information on the record, Commerce preliminarily determines that 12 companies subject to this administrative review had no shipments of subject merchandise during the POR.⁸ Commerce is not rescinding this review with respect to these companies but, rather, intends to complete the review and issue appropriate instructions to U.S. Customs and Border Protection (CBP) based on the final results of the review.⁹ For additional information regarding these preliminary determinations of no shipments, see the Preliminary Decision Memorandum.

⁸ See Appendix II.

⁹ See Non-Market Economy Antidumping Proceedings: Assessment of Antidumping Duties, 76 FR 65694, 65694-95 October 24, 2011); see also the “Assessment Rates” section, infra.

Partial Rescission of Review

Pursuant to 19 CFR 351.213(d)(1), Commerce will rescind an administrative review, in whole or in part, if the party that requested a review withdraws its request within 90 days of the date of publication of the notice of initiation. The requests for an administrative review of two companies, Suofeiya Home Collection Co., Ltd., and Linyi Bonn Flooring Manufacture Co., Ltd., were timely withdrawn within 90 days of the date of publication of the Initiation Notice.¹⁰ As a result, Commerce is rescinding this review with respect to both companies in accordance with 19 CFR 351.213(d)(1).

¹⁰ See Suofeiya Home Collection Co., Ltd.'s Letter, “Withdrawal of Request for Review,” dated July 3, 2023, and Linyi Bonn Flooring Manufacture Co. Ltd.' Letter “Withdrawal of Request for Administrative Review,” dated July 11, 2023.

Separate Rates

Commerce preliminarily determines that 30 non-individually examined companies under review are eligible for separate rates in this administrative review.¹¹ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. For the preliminary results of this review, Commerce has determined the estimated dumping margins for Ancientree and Weisen to be zero. For the reasons explained in the Preliminary Decision Memorandum, we are assigning this rate to the non-examined respondents which qualify for a separate rate.

¹¹ See Appendix III; see also Preliminary Decision Memorandum at the “Separate Rate Determination” section for more details.

China-Wide Entity

Under Commerce's policy regarding the conditional review of the China-wide entity,¹² the China-wide entity will not be under review unless a party specifically requests, or Commerce self-initiates, a review of the entity. Because no party requested a review of the China-wide entity in this review, the entity is not under review, and the entity's rate (i.e., 251.64 percent) is not subject to change.¹³

¹² See Antidumping Proceedings: Announcement of Change in Department Practice for Respondent Selection in Antidumping Duty Proceedings and Conditional Review of the Nonmarket Economy Entity in NME Antidumping Duty Proceedings, 78 FR 65963 (November 4, 2013).

¹³ See Order.

For these preliminary results, Commerce preliminarily determines that 20 companies for which a review was requested, but did not file a separate rate application or demonstrate separate rate eligibility, including Sunwell, to be part of the China-wide entity.¹⁴

¹⁴ See Initiation Notice (“All firms listed below that wish to qualify for separate rate status in the administrative reviews involving NME countries must complete, as appropriate, either a separate rate application or certification, as described below.”); see also Appendix IV for the list of companies under review that are determined to be part of the China-wide entity.

Preliminary Results of Review

Commerce preliminarily determines that the following estimated weighted-average dumping margins exist for the administrative review covering the period April 1, 2022, through March 31, 2023:

Exporter | Weighted-average dumping margin (percent)
Jiangsu Weisen Houseware Co., Ltd | 0.00
The Ancientree Cabinet Co., Ltd | 0.00
Non-Examined Companies Receiving a Separate Rate ¹⁵ | 0.00

Disclosure and Public Comment

¹⁵ See Appendix III.

Commerce will disclose to parties to this proceeding the calculations performed for these preliminary results within five days after public announcement of the preliminary results or, if there is no public announcement, within five days of the date of publication of this notice in the Federal Register, pursuant to 19 CFR 351.224(b).

Pursuant to 19 CFR 351.309(c), interested parties may submit case briefs no later than 30 days after the date of publication of this notice. Rebuttal briefs, limited to issues raised in the case briefs, may be filed not later than five days after the date for filing case briefs.¹⁶ Interested parties who submit case briefs or rebuttal briefs in this proceeding must submit: (1) a table of contents listing each issue; and (2) a table of authorities.¹⁷ All briefs must be filed electronically using ACCESS. An electronically filed document must be received successfully in its entirety in ACCESS by 5:00 p.m. Eastern Time on the established deadline.

¹⁶ See 19 CFR 351.309(d); see also Administrative Protective Order, Service, and Other Procedures in Antidumping and Countervailing Duty Proceedings, 88 FR 67069, 67077 (September 29, 2023) (APO and Service Procedures).

¹⁷ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁸ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁹

¹⁸ We use the term “issue” here to describe an argument that Commerce would normally address in a comment of the Issues and Decision Memorandum.

¹⁹ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Oral presentations at the hearing will be limited to issues raised in the briefs. If a request for a hearing is made, Commerce will inform parties of the scheduled date for the hearing.²⁰

²⁰ See 19 CFR 351.310(d).

Assessment Rates

Upon issuing the final results, Commerce will determine, and CBP shall assess, antidumping duties on all appropriate entries covered by this review.²¹ If the preliminary results are unchanged for the final results, we will instruct CBP to apply an ad valorem assessment rate of 251.64 percent to all entries of subject merchandise during the POR which were exported by the companies considered to be a part of the China-wide entity listed in Appendix IV of this notice. If Commerce determines that an exporter under review had no shipments of the subject merchandise, any suspended entries that entered under that exporter's case number (i.e., at that exporter's rate) will be liquidated at the China-wide rate.²²

²¹ See 19 CFR 351.212(b)(1).

²² See Non-Market Economy Antidumping Proceedings: Assessment of Antidumping Duties, 76 FR 65694, 65695 (October 24, 2011).

For the companies for which Commerce is not rescinding this administrative review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise entered, or withdrawn from warehouse, for consumption on or after the publication date, as provided by section 751(a)(2)(C) of the Act: (1) for the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Final Results of Review

Unless extended, Commerce intends to issue the final results of this administrative review, which will include the results of Commerce's analysis of the issues raised in case briefs, within 120 days after the date of publication of these preliminary results in the Federal Register, pursuant to section 751(a)(3)(A) of the Act and 19 CFR 351.213(h).

Notification to Importers

This notice serves as a preliminary reminder to importers of their responsibility under 19 CFR 351.402(f)(2) to file a certificate regarding the reimbursement of antidumping and/or countervailing duties prior to liquidation of the relevant entries during these PORs. Failure to comply with this requirement could result in Commerce's presumption that reimbursement of antidumping and/or countervailing duties occurred and the subsequent assessment of double antidumping duties, and/or an increase in the amount of antidumping duties by the amount of the countervailing duties.

Notification to Interested Parties

Commerce is issuing and publishing the preliminary results of this review in accordance with sections 751(a)(1)(B), 751(a)(3) and 777(i) of the Act, and 19 CFR 351.213(d)(4) and 351.221(b)(4).

Dated: April 26, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Partial Rescission of Administrative Review

IV. Scope of the Order

V. No-Shipment Certifications

VI. Discussion of the Methodology

VII. Currency Conversion

VIII. Adjustment Under Section 777A(f) of the Act

IX. Recommendation

Appendix II

Companies Preliminarily Determined To Have No Shipments

1. Anhui Xinyuanda Cupboard Co., Ltd.

2. Dalian Hualing Wood Co., Ltd.

3. Dalian Meisen Woodworking Co., Ltd.

4. Dongguan Ri Sheng Home Furnishing Articles Co., Ltd.

5. Hangzhou Hoca Kitchen & Bath Products Co., Ltd.

6. Kunshan Baiyulan Furniture Co., Ltd.

7. Pizhou Ouyme Import & Export Trade Co., Ltd.

8. Quanzhou Ample Furnishings Co., Ltd.

9. Suzhou Siemo Wood Import & Export Co., Ltd.

10. Tech Forest Cabinetry Co., Ltd.

11. Weifang Fuxing Wood Co., Ltd.

12. Zhoushan For-Strong Wood Co.

Appendix III

Non-Examined Companies Under Review Receiving a Separate Rate

1. Changyi Zhengzheng Woodwork Co., Ltd.

2. Fujian Dushi Wooden Industry Co., Ltd.

3. Fujian Leifeng Cabinetry Co., Ltd.

4. Fuzhou CBM Imp & Exp Co., Ltd.

5. Goldenhome Living Co., Ltd.

6. Guangzhou Nuolande Import and Export Co., Ltd.

7. Honsoar New Building Material Co., Ltd.

8. Jiang Su Rongxin Wood Industry Co., Ltd. (Formerly known as Jiang Su Rongxin Cabinets Ltd.)

9. Jiangsu Beichen Wood Co., Ltd.

10. KM Cabinetry Co., Ltd.

11. Linyi Kaipu Furniture Co., Ltd.

12. Morewood Cabinetry Co., Ltd.

13. Qingdao Shousheng Industry Co., Ltd

14. Senke Manufacturing Company

15. Shandong Jinhua Wood Co., Ltd.

16. Shandong Longsen Woods Co., Ltd.

17. Shanghai Zifeng International Trading Co., Ltd

18. Sheen Lead International Trading (Shanghai) Co., Ltd.

19. Shouguang Fushi Wood Co., Ltd.

20. Taishan Hongxiang Trading Co., Ltd.

21. Taishan Oversea Trading Co., Ltd.

22. Taizhou Overseas Int'l Ltd.

23. Weifang Yuanlin Woodware Co., Ltd.

24. Weihai Jarlin Cabinetry Manufacture Co., Ltd.

25. Xiamen Adler Cabinetry Co., Ltd.

26. Xiamen Golden Huanan Imp & Exp Co., Ltd.

27. Xuzhou Yihe Wood Co., Ltd.

28. Yixing Pengjia Technology Co., Ltd. (formally known as Yixing Pengjia Cabinetry Co., Ltd.)

29. Zhangzhou OCA Furniture Co., Ltd.

30. Zhongshan NU Furniture Co., Ltd.

Appendix IV

Companies Determined To Be Part of the China-Wide Entity

1. Deqing Meisheng Import and Export Co., Ltd.

2. Fujian Senyi Kitchen Cabinet Co., Ltd.

3. Fuzhou Hauster Kitchen Cabinet Manufacturing Co., Ltd.

4. Fuzhou Pyrashine Trading Co., Ltd.

5. Jiang Su Rongxin Import and Export Co., Ltd.

6. Jiangsu Sunwell Cabinetry Co., Ltd.

7. Jiangsu Xiangsheng Bedtime Furniture Co., Ltd.

8. Linshu Meibang Furniture Co., Ltd.

9. Linyi Bomei Furniture Co., Ltd

10. Nantong Aershin Cabinets Co., Ltd.

11. Qufu Xinyu Furniture Co., Ltd.

12. Shanghai Beautystar Cabinetry Co., Ltd.

13. Shanghai Zifeng Industries Development Co., Ltd.

14. Shenzhen Pengchengzhirong Trade Co., Ltd.

15. Xiamen Got Cheer Co., Ltd.

16. Yichun Dongmeng Wood Co., Ltd.

17. Yindu Kitchen Equipment Co., Ltd.

18. ZBOM Cabinets Co., Ltd.

19. Zaozhuang New Sharp Import & Export Trading Co., Ltd.

20. Zhongshan KM Cabinetry Co., Ltd.

[FR Doc. 2024-09580 Filed 5-1-24; 8:45 am]

BILLING CODE 3510-DS-P